DEPARTMENT OF TRANSPORTATION

Federal Aviation Administration

14 CFR Part 39

[Docket No. 2000-NE-14-AD; Amendment 39-12676; AD 2002-03-09 R1]

RIN 2120-AA64

Airworthiness Directives; Honeywell International Inc. (formerly AlliedSignal Inc. and Textron Lycoming) LTS101 Series Turboshaft and LTP101 Series Turboprop Engines

AGENCY: Federal Aviation Administration, DOT.

ACTION: Final rule; request for comments.

SUMMARY: This amendment revises an existing airworthiness directive (AD), that is applicable to Honeywell International Inc. (formerly AlliedSignal Inc. and Textron Lycoming) LTS101 series turboshaft and LTP101 series turboprop engines. The existing AD will become effective on March 27, 2002, and requires a one-time visual inspection for surface finish and a one-time fluorescent penetrant inspection for cracks of certain impellers installed on LTS101 series turboshaft and LTP101 series turboprop engines. This amendment requires the same inspections, and in addition, allows installation of impellers that pass those inspections. This revision to the existing AD is prompted by an inadvertent omission in the existing AD to include allowance of installation of impellers that pass inspections required by the AD. The actions specified by this AD are intended to prevent impeller failure from cracks in the impeller back face area, which could result in an uncontained engine failure.

DATES: Effective March 27, 2002. The incorporation by reference of certain publications listed in the rule was approved by the Director of the Federal Register as of March 27, 2002.

Comments for inclusion in the Rules Docket must be received on or before May 20, 2002.

ADDRESSES: Submit comments in triplicate to the Federal Aviation Administration (FAA), New England Region, Office of the Regional Counsel, Attention: Rules Docket No. 2000-NE-14-AD, 12 New England Executive Park, Burlington, MA 01803-5299. Comments may be inspected at this location, by appointment, between 8:00 a.m. and 4:30 p.m., Monday through Friday, except Federal holidays. Comments may also be sent via the Internet using the following address: 9-ane-adcomment@faa.gov. Comments sent via the Internet must contain the docket number in the subject line.

The service information referenced in this AD may be obtained from Honeywell International Inc. Aerospace Services Attn.: Data Distribution, M/S 64-3/2101-201, PO Box 29003, Phoenix, AZ 85038-9003; telephone (602) 365-2493, fax (602) 365-5577. This information may be examined, by appointment, at the FAA, New England Region, Office of the Regional Counsel, 12 New England Executive Park, Burlington, MA; or at the Office of the Federal Register, 800 North Capitol Street, NW., suite 700, Washington, DC.

FOR FURTHER INFORMATION CONTACT: Robert Baitoo, Aerospace Engineer, Los Angeles Aircraft Certification Office, FAA, Transport Airplane Directorate, 3960 Paramount Blvd., Lakewood, CA 90712-4137; telephone (562) 627-5245, fax (562) 627-5210.

SUPPLEMENTARY INFORMATION: On February 5, 2002, the FAA issued AD 2002-03-09, Amendment 39-12650 (67 FR 7609, February 20, 2002), to require a one-time visual inspection for surface finish and a one-time fluorescent penetrant inspection for cracks of certain impellers installed on LTS101 series turboshaft and LTP101 series turboprop engines. That action was prompted by a report of a machining discrepancy that may have occurred during manufacture of the affected impellers. That AD will become effective on March 27, 2002.

In this revision the FAA has added to paragraph (c) the authority to allow the reinstallation of impellers P/N's 4-101-052-57 or 4-101-052-62 that pass the required inspections. In all other respects, the AD remains the same as currently published. The FAA is therefore making this revision effective on March 27, 2002, in order to reduce the paperwork burden on operators.

Manufacturer's Service Information

Honeywell International Inc. (formerly AlliedSignal Inc. and Textron Lycoming) has issued AlliedSignal Service Bulletin (SB) LT 101-72-30-0186, dated October 1, 1999, and Honeywell International SB LT 101-72-30-0186, Revision 1, dated April 25, 2000, that specify a one-time visual inspection for surface finish and a one-time fluorescent penetrant inspection for cracks of certain impellers.

Differences Between This AD and the Manufacturer's Service Bulletins

To assure that the unsafe condition is addressed in a timely fashion, this amendment will require a one-time visual inspection for surface finish and a one-time fluorescent penetrant inspection for cracks of impellers part numbers (P/N's) 4-101-052-57/-62 within 900 gas generator (Ng) cycles after the effective date of this AD.

FAA's Determination of an Unsafe Condition and Required Actions

Since an unsafe condition has been identified that is likely to exist or develop on other Honeywell International Inc. (formerly AlliedSignal Inc. and Textron Lycoming) LTS101 series turboshaft and LTP101 series turboprop engines of the same type design, this AD is being issued to prevent impeller failure from cracks in the impeller back face area, which could result in an uncontained engine failure.

Immediate Adoption of This AD

Since a situation exists that requires the immediate adoption of this regulation, it is found that notice and opportunity for prior public comment hereon are unnecessary, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this action must submit a self-addressed, stamped postcard on which the following statement is made: “Comments to Docket Number 2000-NE-14-AD.” The postcard will be date stamped and returned to the commenter.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12650 (67 FR 7609, February 20, 2002) and by adding a new airworthiness directive, Amendment 39-12676, to read as follows:

2002-03-09 R1 Honeywell International Inc. (formerly AlliedSignal Inc. and Textron Lycoming): Amendment 39-12676. Docket No. 2000-NE-14-AD. Revises AD 2002-03-09, Amendment 39-12650.

Applicability

This airworthiness directive (AD) is applicable to Honeywell International Inc. (formerly AlliedSignal Inc. and Textron Lycoming) LTS101 series turboshaft and LTP101 series turboprop engines with the following centrifugal compressor impeller part numbers (P/N's) installed: 4-101-052-57 and 4-101-052-62, except those with a P/N or serial number (SN) listed in paragraphs 1.A.(1) through 1.A.(3) of AlliedSignal Service Bulletin (SB) LT 101-72-30-0186, dated October 1, 1999, or Honeywell International Inc. SB LT 101-72-30-0186, Revision 1, dated April 25, 2000. These engines are installed on, but not limited to Aerospatiale AS350, Eurocopter MBB-BK117 and HH-65A, Bell 222, Air Tractor AT-302, Piaggio P.166-DL3, Riley International R421, and Pacific Aero 08-600 aircraft.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (d) of this AD. The request should include an assessment of the effect of the modification, alteration, or repair on the unsafe condition addressed by this AD; and, if the unsafe condition has not been eliminated, the request should include specific proposed actions to address it.

Compliance

Compliance with this AD is required as indicated, unless already done.

To prevent impeller failure from cracks in the impeller back face area, which could result in an uncontained engine failure, do the following:

(a) Within 900 gas generator (Ng) cycles after the effective date of this AD, conduct a one-time visual inspection for surface finish and fluorescent penetrant inspection of impellers P/N 4-101-052-57 and 4-101-052-62 for cracks in accordance with paragraphs 3.A through 3.F. of the Accomplishment Instructions of AlliedSignal SB LT 101-72-30-0186, dated October 1, 1999, or Honeywell International Inc. SB LT 101-72-30-0186, Revision 1, dated April 25, 2000.

(b) Replace all impellers that exceed the acceptable limits of the Accomplishment Instructions of AlliedSignal Service Bulletin (SB) LT 101-72-30-0186, dated October 1, 1999, or Honeywell International Inc. SB LT 101-72-30-0186, Revision 1, dated April 25, 2000, with a serviceable impeller.

(c) After the effective date of this AD, do not install impeller P/N's 4-101-052-57 or 4-101-052-62, except those with an impeller P/N or SN listed in paragraphs 1. A.(1) through 1. A.(3) of AlliedSignal SB LT 101-72-30-0186, dated October 1, 1999, or Honeywell International Inc. SB LT 101-72-30-0186, Revision 1, dated April 25, 2000, and except those impellers that pass the inspection requirements of paragraph (a) of this AD.

Alternative Methods of Compliance

(d) An alternative method of compliance or adjustment of the compliance time that provides an acceptable level of safety may be used if approved by the Manager, Los Angles Aircraft Certification Office (LAACO). Operators must submit their request through an appropriate FAA Principal Maintenance Inspector, who may add comments and then send it to the Manager, LAACO.

Note 2: Information concerning the existence of approved alternative methods of compliance with this airworthiness directive, if any, may be obtained from the LAACO.

Special Flight Permits

(e) Special flight permits may be issued in accordance with §§ 21.197 and 21.199 of the Federal Aviation Regulations (14 CFR 21.197 and 21.199) to operate the aircraft to a location where the requirements of this AD can be done.

Documents That Have Been Incorporated By Reference

(f) The inspections must be done in accordance with the following SB's:

Document No. | Pages | Revision | Date
AlliedSignal SB LT 101-72-30-0186 | All | Original | Oct. 1, 1999.
Total pages: 7
Honeywell International Inc., SB LT 101-72-30-0186 | 1 | Original | Oct. 1, 1999.
| 2 | 1 | Apr. 25, 2000.
| 3-6 | Original | Oct. 1, 1999.
| 7 | 1 | Apr. 25, 2000.
Total pages: 7

This incorporation by reference was approved by the Director of the Federal Register in accordance with 5 U.S.C. 552(a) and 1 CFR part 51. Copies may be obtained from Honeywell International Inc. Aerospace Services Attn.: Data Distribution, M/S 64-3/2101-201, PO Box 29003, Phoenix, AZ 85038-9003; telephone (602) 365-2493, fax (602) 365-5577. Copies may be inspected, by appointment, at the FAA, New England Region, Office of the Regional Counsel, 12 New England Executive Park, Burlington, MA; or at the Office of the Federal Register, 800 North Capitol Street, NW, suite 700, Washington, DC.

Effective Date

(g) This amendment becomes effective on March 27, 2002.

Issued in Burlington, Massachusetts, on March 8, 2002.
Jay J. Pardee,
Manager, Engine and Propeller Directorate, Aircraft Certification Service.

[FR Doc. 02-6502 Filed 3-20-02; 8:45 am]

BILLING CODE 4910-13-P